DEPARTMENT OF AGRICULTURE

Office of the Secretary

Secure Rural Schools Resource Advisory Committees

AGENCY: Office of the Secretary, USDA Forest Service.

ACTION: Notice; Charter Re-Establishment for the Secure Rural Schools Resource Advisory Committees

SUMMARY: The eight charters for the Secure Rural School Resource Advisory Committees (RACs) are being re-established and authorized to carry out the requirements of the Secure Rural Schools and Community Self-Determination Act of 2000 (the Act), Public Law 106-393, as amended by the Emergency Economic Stabilization Act of 2008, Energy Improvement and Extension Act of 2008, and Tax Extenders and Alternate Minimum Tax Relief Act of 2008 (Pub. L. 110-343). The re-establishment includes the implementation of Title II projects and recommendations.

FOR FURTHER INFORMATION CONTACT: Rick Alexander, Payments to States Coordinator, at ralexander@fs.fed.us, (202) 205-1780, or at USDA Forest Service, 1400 Independence Avenue, SW., Mailstop 1111, Washington, DC 20250. Individuals who use telecommunication devices for the deaf (TDD) may call the Federal Information Relay Service (FIRS) at 1-800-877-8339 between 8 a.m. and 8 p.m., Eastern Standard time, Monday through Friday.

SUPPLEMENTARY INFORMATION: Pursuant to the Federal Advisory Committee Act (5 U.S.C. App.II), notice is hereby given that the Secretary of the U.S. Department of Agriculture intends to re-establish the eight charters for the Secure Rural Schools Resource Advisory Committees (RACs). The Secretary has determined the work of these Committees is in the public interest and relevant to the duties of the Department of Agriculture. The purpose of the RACs is to improve collaborative relationships and to provide advice and recommendations to the Forest Service consistent with the reauthorization of the Secure Rural Schools and Community Self-Determination Act of 2000 (Pub. L. 106-393) as amended by the Emergency, Economic Stabilization Act of 2008, Energy Improvement and Extension Act of 2008, and Tax Extenders and Alternate Minimum Tax Relief Act of 2008 (Pub. L. 110-343). The re-established purpose of the RACs is to ensure that line officers responsible for implementing Title II projects have efficient and effective access to the advice from stakeholders. Equally important, the committee operations encourage early and continuous coordination among Forest Service officials, Tribal representatives, citizens, organizations, land management agencies, and others to participate openly and meaningfully in planning and implementing projects to benefit communities and forest health. The charters are as follows:

1. Alaska Region Resource Advisory Committees.

2. Southern Region Resource Advisory Committees.

3. Pacific Southwest Region Resource Advisory Committees.

4. Pacific Northwest Region Resource Advisory Committees.

5. Northern Region Resource Advisory Committees.

6. Intermountain Region Resource Advisory Committees.

7. Southwestern Region Resource Advisory Committees.

8. Rocky Mountain Region Resource Advisory Committees.

These Advisory Committees shall consist of 15 members appointed by the Secretary of Agriculture or the Secretary's designee and shall consist of members who represent the interests of the following three categories (16 U.S.C. 500 § 205 (d)):

(A) Five persons that—

i. Represent organized labor or non-timber forest product harvester group,

ii. Represent developed outdoor recreation, off-highway vehicle users, or commercial recreation activities,

iii. Represent energy and mineral development, or commercial or recreational fishing interests,

iv. Represent commercial timber industry, or

v. Hold Federal grazing permits or other land use permits or represent non-industrial private forest land owners, within the area for which the committee is organized.

(B) Five persons that represent—

i. Nationally recognized environmental organizations,

ii. Regionally or locally recognized environmental organizations,

iii. Dispersed recreational activities,

iv. Archaeological and historical interests, or

v. Nationally or regionally wild horse and burro interest groups, wildlife or hunting organizations, or watershed associations.

(C) Five persons that—

i. Hold State elected office or a designee,

ii. Hold county or local elected office,

iii. Represent American Indian Tribes within or adjacent to the area for which the committee is organized,

iv. Are school officials or teachers, or

v. Represent affected public at large.

Equal opportunities practices, in line with USDA policies, will be followed in all appointments to the advisory committees. To ensure that the recommendations of the Committee have taken into account the needs of the diverse groups served by the Department, membership includes, to the extent practicable, individuals with demonstrated ability to represent minorities, women, and person with disabilities.

Dated: October 1, 2009.
Pearlie S. Reed,
Assistant Secretary for Administration.

[FR Doc. E9-24974 Filed 10-15-09; 8:45 am]

BILLING CODE 3410-11-P